DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act. To request a copy of these documents, call the SAMHSA Reports Clearance Officer at (240) 276-0361.

Project: State Opioid Response (SOR)/Tribal Opioid Response (TOR) Program Instrument (OMB No. 0930-0384)—Revision

SAMHSA is requesting approval to modify its existing CSAT SOR/TOR Program Instrument by (1) collapsing the original three questions into two questions for clarity and (2) adding ten questions in order to collect information on Congressionally mandated and programmatic activities, and comply with reporting requirements. The program-level information is collected quarterly and entered and stored in SAMHSA's Performance Accountability and Reporting System, which is a real-time, performance management system that captures information on the substance use prevention and treatment and mental health services delivered in the United States. Continued approval of this information collection will allow SAMHSA to continue to meet Government Performance and Results Modernization Act of 2010 reporting requirements that quantify the effects and accomplishments of its discretionary grant programs.

The SOR/TOR programs were first authorized under Title II Division H of the Consolidated Appropriations Act, 2018, Public Law 115-141. SAMHSA anticipates 159 recipients (states, territories, and tribal entities) will participate in these grant programs. Grantee-level data will include information related to: Reported overdose reversals; the purchase and distribution of naloxone; training in the administration of naloxone; implementation of prevention and education activities; outreach activities for underserved communities; and the purchase and distribution of fentanyl test strips. This grantee-level information will be collected quarterly.

The revisions to the tool will enable SAMHSA to better assess grantee accountability and performance on the required education and prevention activities for the SOR/TOR programs. SAMHSA will also use the data collected through the revised tool to implement recommendations resulting from the GAO study, “Drug Misuse: Agencies Have Not Fully Identified How Grants That Can Support Drug Prevention Education Programs Contribute to National Goals (GAO-21-96).¹ Finally, the revisions will assist SAMHSA in providing comprehensive data on the full range of required activities to inform Congressionally mandated reports for the SOR program.

¹ United States Government Accountability Office. (2020, November). Drug Misuse: Agencies Have Not Fully Identified How Grants That Can Support Drug Prevention Education Programs Contribute to National Goals. https://www.gao.gov/assets/gao-21-96.pdf.

CSAT anticipates that the time required to collect and report the program-level information is approximately 18 minutes per response. Since the submission of the original OMB package, there has been a reduction in the number of respondents. The estimated burden associated with the program-level instrument includes an adjustment to reflect the current number of grantees.

Table 1—Estimate of Annualized Hour Burden for SOR/TOR Grantees
SAMHSA data collection | Number of respondents | Responses per respondent | Total number of responses | Burden hours per response | Total burden hours | Hourly wage ¹ | Total wage cost
Grantee-Level Instrument | 159 | 4 | 636 | .30 | 190.80 | $24.78 | $4,728.02
CSAT Total | 159 | 4 | 636 | .30 | 190.80 | 24.78 | 4,728.02
¹ The hourly wage estimate is $24.78 based on the Occupational Employment and Wages, Mean Hourly Wage Rate for 21-1018 Substance Abuse, Behavioral Disorder, and Mental Health Counselors = $24.78/hr. as of May 2020 (https://www.bls.gov/oes/current/oes211018.htm Accessed on May 4, 2021.).

Written comments and recommendations for the proposed information collection should be sent within 30 days of publication of this notice to www.reginfo.gov/public/do/PRAMain. Find this particular information collection by selecting “Currently under 30-day Review—Open for Public Comments” or by using the search function.

Carlos Graham,
Reports Clearance Officer.

[FR Doc. 2021-21965 Filed 10-6-21; 8:45 am]

BILLING CODE 4162-20-P